DEPARTMENT OF LABOR

Office of the Secretary

Submission for OMB Review; Comment Request

November 13, 2000.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ((202) 693-4127 or by E-mail to Kurz-Karin@dol.gov). To obtain documentation for ESA, MSHA, OSHA, and VETS contact Darrin King ((202) 693-4129 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Reinstatement, with change, of a previously approved collection for which approval has expired.

Agency: Employment and Training Administration.

Title: Job Corp Enrollee Allotment Determination.

OMB Number: 1205-0030.

Affected Public: Individuals or households; Federal Government.

Frequency: On occasion.

Number of Respondents: 7,500.

Estimated Time Per Respondent: 12 Minutes.

Total Burden Hours: 1,500.

Total Annualized capital/startup costs: $0.

Total Annual Costs (operating/maintaining systems or purchasing services): $0.

Description: Job Corp enrollees may elect to have a portion of their readjustment allowance/transition payment sent to a dependent biweekly. This form provides the information necessary to administer these allotment and qualification for the allotment.

Type of Review: Reinstatement, without change, of a previously approved collection for which approval has expired.

Agency: Bureau of Labor Statistics.

Title: Contingent Work Supplement to the Current Population Survey (CPS).

OMB Number: 1200-0153.

Affected Public: Individuals or households.

Frequency: One-time.

Number of Respondents: 48,000.

Estimated Time Per Respondent: 8 Minutes.

Total Burden Hours: 6,400.

Total Annualized Capital/Startup Costs: $0.

Total Annual Costs (operating/maintaining systems or purchasing services): $0.

Description: The contingent work supplement will gather information on the number and characteristics of workers holding jobs expected to last for a limited time (contingent employment). In addition, the supplement will collect information about workers in several alternative employment arrangements.

Ira L. Mills,
Departmental Clearance Officer.

[FR Doc. 00-29620 Filed 11-17-00; 8:45 am]

BILLING CODE 4510-30-M